DEPARTMENT OF THE INTERIOR

Fish and Wildlife Service

[FWS-HQ-FAC-2015-N017; FF09F42300-FVWF97920900000-XXX]

Sport Fishing and Boating Partnership Council

AGENCY: Fish and Wildlife Service, Interior.

ACTION: Notice of meeting.

SUMMARY: We, the U.S. Fish and Wildlife Service (Service), announce a public meeting of the Sport Fishing and Boating Partnership Council (Council). A Federal advisory committee, the Council was created in part to foster partnerships to enhance public awareness of the importance of aquatic resources and the social and economic benefits of recreational fishing and boating in the United States. This meeting is open to the public, and interested persons may make oral statements to the Council or may file written statements for consideration.

DATES: The meeting will take place Tuesday, February 24, 2015, from 8:30 a.m. to 4:30 p.m. (Eastern Daylight Time) and Wednesday, February 25, 2015 from 9 a.m. to 1:30 p.m. For deadlines and directions on registering to attend the meeting, submitting written material, and/or giving an oral presentation, please see “Public Input” under SUPPLEMENTARY INFORMATION.

ADDRESSES: The meeting will be held at the J.N. “Ding” Darling National Wildlife Refuge, 1 Wildlife Drive, Sanibel, Florida 33957.

FOR FURTHER INFORMATION CONTACT: Brian Bohnsack, Council Coordinator, 5275 Leesburg Pike, MS-3C016A-FAC, Falls Church, VA 22041; telephone (703) 358-2435; fax (703) 358-2210; or email brian_bohnsack@fws.gov.

SUPPLEMENTARY INFORMATION: In accordance with the requirements of the Federal Advisory Committee Act, 5 U.S.C. App., we announce that the Sport Fishing and Boating Partnership Council will hold a meeting.

Background

The Council was formed in January 1993 to advise the Secretary of the Interior, through the Director of the Service, on aquatic conservation endeavors that benefit recreational fishery resources and recreational boating and that encourage partnerships among industry, the public, and government. The Council represents the interests of the public and private sectors of the recreational fishing, boating, and conservation communities and is organized to enhance partnerships among industry, constituency groups, and government. The 18-member Council, appointed by the Secretary of the Interior, includes the Service Director and the president of the Association of Fish and Wildlife Agencies, who both serve in ex officio capacities. Other Council members are directors from State agencies responsible for managing recreational fish and wildlife resources and individuals who represent the interests of saltwater and freshwater recreational fishing, recreational boating, the recreational fishing and boating industries, recreational fisheries resource conservation, Native American tribes, aquatic resource outreach and education, and tourism. Background information on the Council is available at http://www.fws.gov/sfbpc.

Meeting Agenda

The Council will hold a meeting to consider:

• An update from the FWS Fish and Aquatic Conservation Program on their new strategic plan and other programs;

• An update and discussion on the Council's assessment of the Recreational Boating and Fishing Foundation's implementation of the National Outreach and Communication Program (Catalog of Federal Domestic Assistance number 15.653);

• An update and discussion regarding a proposed pilot project to improve the efficiency of Federal agencies' permitting review processes associated with boating infrastructure projects (e.g., boat dock replacement and maintenance, boat ramp construction and maintenance);

• An update of the boating access expenditure component of the Sport Fish Restoration Program;

• An update on Tribal fish and wildlife conservation programs as they pertain to priorities of the Sport Fishing and Boating Partnership Council;

• Other miscellaneous Council business.

The final agenda will be posted on the Internet at http://www.fws.gov/sfbpc.

Public Input

If you wish to | Then you must contact the Council Coordinator (see FOR FURTHER INFORMATION CONTACT) no later than
Attend the meeting | Wednesday, February 18, 2015.
Submit written information or questions before the meeting for the council to consider during the meeting | Wednesday, February 18, 2015.
Give an oral presentation during the meeting | Wednesday, February 18, 2015.

Attendance

The Council meeting will be held at the J.N. “Ding” Darling National Wildlife Refuge Headquarters complex, 1 Wildlife Drive, Sanibel, Florida. Signs will be posted to direct attendees to the specific conference room.

Submitting Written Information or Questions

Interested members of the public may submit relevant information or questions for the Council to consider during the meeting. Written statements must be received by the date listed above in “Public Input,” so that the information may be made available to the Council for their consideration prior to the meeting. Written statements must be supplied to the Council Coordinator in one of the following formats: One hard copy with original signature, and one electronic copy via email (acceptable file formats are Adobe Acrobat PDF, MS Word, MS PowerPoint, or rich text file).

Giving an Oral Presentation

Individuals or groups requesting to make an oral presentation during the meeting will be limited to 2 minutes per speaker, with no more than a total of 30 minutes for all speakers. Interested parties should contact the Council Coordinator, in writing (preferably via email; see FOR FURTHER INFORMATION CONTACT), to be placed on the public speaker list for this meeting. To ensure an opportunity to speak during the public comment period of the meeting, members of the public must register with the Council Coordinator. Registered speakers who wish to expand upon their oral statements, or those who had wished to speak but could not be accommodated on the agenda, may submit written statements to the Council Coordinator up to 30 days subsequent to the meeting.

Meeting Minutes

Summary minutes of the meeting will be maintained by the Council Coordinator (see FOR FURTHER INFORMATION CONTACT) and will be available for public inspection within 90 days of the meeting and will be posted on the Council's Web site at http://www.fws.gov/sfbpc.

Stephen Guertin,
Acting Director.

[FR Doc. 2015-02784 Filed 2-10-15; 8:45 am]

BILLING CODE 4310-55-P